DEPARTMENT OF LABOR

Employment and Training Administration

Notice of Funding Opportunity and Solicitation for Grant Applications for YouthBuild Grants

AGENCY: Employment and Training Administration, Labor.

ACTION: Notice of Solicitation for Grant Applications (SGA).

Funding Opportunity Number: SGA/DFA PY 11-06.

SUMMARY: The Employment and Training Administration, U.S. Department of Labor (DOL), announces the availability of approximately $75 million in grant funds authorized by the YouthBuild provisions of the Workforce Investment Act [29 U.S.C. 2918a].

YouthBuild grants will be awarded through a competitive process. Under this solicitation, DOL will award grants to organizations to oversee the provision of education, occupational skills training, and employment services to disadvantaged youth in their communities while performing meaningful work and service to their communities.

Based on FY 2012 funding, DOL hopes to serve approximately 5,210 participants during the grant period of performance, with projects operating in approximately 75 communities across the country.

The complete SGA and any subsequent SGA amendments in connection with this solicitation are described in further detail on ETA's Web site at http://www.doleta.gov/grants/ or on http://www.grants.gov. The Web sites provide application information, eligibility requirements, review and selection procedures, and other program requirements governing this solicitation.

DATES: The closing date for receipt of applications is May 8, 2012.

FOR FURTHER INFORMATION CONTACT: Kia Mason, 200 Constitution Avenue NW., Room N-4716, Washington, DC 20210; Telephone: 202-693-2606.

Signed March 5, 2012 in Washington, DC.
Donna Kelly,
Grant Officer, Employment and Training Administration.

[FR Doc. 2012-5657 Filed 3-7-12; 8:45 am]

BILLING CODE 4510-FT-P